DEPARTMENT OF TRANSPORTATION

Federal Aviation Administration

14 CFR Part 71

[Docket No. FAA-2023-2314; Airspace Docket No. 22-ASO-23]

RIN 2120-AA66

Amendment and Revocation of Multiple Air Traffic Service (ATS) Routes; Eastern United States

AGENCY: Federal Aviation Administration (FAA), DOT.

ACTION: Notice of proposed rulemaking (NPRM).

SUMMARY: This action proposes to amend multiple Very High Frequency Omnidirectional Range (VOR) Federal airways; and revoke one VOR Federal airway and one Colored Federal airway in the eastern United States. This action is in support of the FAA's VOR Minimum Operational Network (MON) Program. The purpose is to enhance the efficiency of the National Airspace System (NAS) by transitioning from ground-based navigation aids to a satellite-based navigation system.

DATES: Comments must be received on or before February 1, 2024.

ADDRESSES: Send comments identified by FAA Docket No. FAA-2023-2314 and Airspace Docket No. 22-ASO-23 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Brian Vidis, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the NAS while lessening the dependency on ground-based navigation.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Eastern Service Center, Federal Aviation Administration, Room 210, 1701 Columbia Avenue, College Park, GA, 30337.

Incorporation by Reference

Domestic VOR Federal Airways are published in paragraph 6010(a) and Colored Federal airways are published in paragraph 6009 of FAA Order JO 7400.11, Airspace Designations and Reporting Points, which is incorporated by reference in 14 CFR 71.1 on an annual basis. This document proposes to amend the current version of that order, FAA Order JO 7400.11H, dated August 11, 2023, and effective September 15, 2023. These updates would be published in the next update to FAA Order JO 7400.11. That order is publicly available as listed in the ADDRESSES section of this document.

FAA Order JO 7400.11H lists Class A, B, C, D, and E airspace areas, air traffic service routes, and reporting points.

Background

The FAA is planning to decommission the Danville, VA (DAN), VOR; the Franklin, VA (FKN), VOR/Tactical Air Navigation (VORTAC); and the Lawrenceville, VA (LVL), VORTAC in September 2024.

The Danville VOR, the Franklin VORTAC, and the Lawrenceville VORTAC were candidate Navigation Aids (NAVAID) identified for discontinuance by the FAA's VOR MON program and listed in the Final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082.

Additionally, the North Carolina Department of Transportation is no longer supporting the Wright Brothers, NC (RBX), VOR/Distance measuring Equipment (VOR/DME); and Manteo, NC (MQI), Nondirectional Radio Beacon (NDB), both of which are currently out of service and will not be repaired.

With the planned decommissioning of the Danville, VA, the Franklin, VA, and the Lawrenceville, VA, NAVAIDs, the remaining ground-based NAVAID coverage in the area is insufficient to enable the continuity of the affected VOR Federal Airways. To overcome the proposed modifications, instrument flight rules (IFR) or visual flight rules (VFR) aircraft can use Area Navigation (RNAV) routes T-287, T-398, T-479, T-480, T-482, and T-488, which are new or amended RNAV routes proposed in other dockets, to circumnavigate the affected area. Additionally, aircraft may navigate via point-to-point navigation using the fixes that will remain in place, or request and receive air traffic control (ATC) radar vector through and around the area.

The Proposal

The FAA is proposing an amendment to 14 CFR part 71 to amend VOR Federal airways V-66, V-155, V-157, V-258, V-266, V-454, and V-469; and to revoke VOR Federal airway V-189 and Colored Federal airway Green 13 (G-13). The proposed changes facilitate the scheduled decommissioning of the following navigation aids: Danville, VA (DAN), VOR; Franklin, VA (FKN), VORTAC; Lawrenceville, VA (LVL), VORTAC; Wright Brothers, NC (RBX), VOR/DME; and Manteo, NC (MQI), NDB. The proposed route changes are described below.

G-13: G-13 is a Colored Federal airway that currently extends between the Manteo, NC (MQI), NDB and the ZOLMN, NC, Fix. The Manteo NDB is a non-federal facility that is no longer serviceable. Without this navigation facility, G-13 is no longer viable, so the FAA proposes to remove the route in its entirety.

V-66: V-66 consists of two parts: between the Mission Bay, CA (MZB), VORTAC and the LaGrange, GA (LGC), VORTAC; and between the Sandhills, NC (SDZ), VORTAC, and the Franklin, VA (FKN), VORTAC. The FAA proposes to remove the route segment between the Raleigh/Durham, NC (RDU), VORTAC and the Franklin VORTAC. The first part of the route would remain unchanged as currently charted. As amended, the second part of the route would extend between the Sandhills VORTAC and the Raleigh/Durham VORTAC.

V-155: V-155 currently extends between the intersection of the Dublin, GA (DBN), VORTAC 309° True (T) and the Colliers, SC (IRQ), VORTAC 243°(T) radials, and the Brooke, VA (BRV), VORTAC. The FAA proposes to remove the route segments between the Raleigh/Durham, NC (RDU), VORTAC and the Flat Rock, VA (FAK), VORTAC. As amended, the route would extend between the intersection of the Dublin, VORTAC 309°(T) and the Colliers VORTAC 243°(T) radials and the Raleigh/Durham VORTAC; and between the Flat Rock VORTAC and the Brooke VORTAC.

V-157: V-157 consists of three parts: between the Key West, FL (EYW), VORTAC and the Waycross, GA (AYS), VORTAC; between the Florence, SC (FLO), VORTAC and the Richmond, VA (RIC), VORTAC; and between the Robbinsville, NJ (RBV), VORTAC and the Albany, NY (ALB), VORTAC. The FAA proposes to remove the route segments between the Tar River, NC (TYI), VORTAC and the Richmond VORTAC. The first and third part of the route would remain unchanged as currently charted. As amended, the second part of the route would extend between Florence VORTAC and the Tar River VORTAC.

V-189: V-189 currently extends between the Wright Brothers, NC (RBX), VOR/DME and the Hopewell, VA (HPW), VORTAC. The FAA proposes to remove the route in its entirety.

V-258: V-258 currently extends between the Charleston, WV (HVQ), VOR/DME and the Danville VOR. The FAA proposes to remove the route segments between the Roanoke, VA (ROA), VOR/DME and the Danville, VA (DAN), VOR. As amended, the route would extend between the Charleston VOR/DME and the Roanoke VOR/DME.

V-266: V-266 consists of two parts: between the Electric City, SC (ELW), VORTAC and the Spartanburg, SC (SPA), VORTAC; and between the Greensboro, NC (GSO), VORTAC and the Wright Brothers, NC (RBX), VOR/DME. The FAA proposes to remove the route segments between the South Boston, VA (SBV), VORTAC and the SUNNS, NC, Fix; and between the Elizabeth City, NC (ECG), VOR/DME, and the Wright Brothers VOR/DME. The SUNNS intersection is defined by the intersection of the Elizabeth City, VOR/DME 304°(T)/311° Magnetic (M) and the Norfolk, VA (OFK), VOR/DME 209°(T)/216°(M) radials. The first part of the route would remain unchanged as currently charted. As amended, the second part of the route would extend between the Greensboro VORTAC and the South Boston VORTAC; and between the intersection of the Elizabeth City VOR/DME 304°(T)/311°(M) and Norfolk, VA 209°(T)/216°(M) radials and the Elizabeth City VOR/DME.

V-454: V-454 consists of two parts: between the Brookley, AL (BFM), VORTAC and the Monroeville, AL (MVC), VORTAC; and between the intersection of the Charlotte, VA (CLT), VOR/DME 034°(T) and Liberty, NC (LIB), VORTAC 253°(T) radials and the Hopewell, VA (HPW), VORTAC. The FAA proposes to remove the route segments between the Liberty VORTAC and the Hopewell VORTAC. The first part of the route would remain unchanged as currently charted. As amended, the second part of the route would extend between the intersection of the Charlotte VOR/DME 034°(T) and Liberty VORTAC 253°(T) radials and the Liberty VORTAC.

V-469: V-469 consists of two parts: between the Danville, VA (DAN), VOR and the Johnstown, PA (JST), VOR/DME; and between the Harrisburg, PA (HAR), VORTAC and the Woodstown, NJ (OOD), VORTAC. The FAA proposes to remove the route segment between the Danville VOR and the Lynchburg, VA (LYH), VOR/DME. The second part of the route would remain unchanged as currently charted. As amended, the first part of the route would extend between the Lynchburg VOR/DME and the Johnstown VOR/DME.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 6009 Colored Federal Airways.

* * * * *

G-13 [Removed]

* * * * *

Paragraph 6010(a) Domestic VOR Federal Airways.

* * * * *

V-66 [Amended]

From Mission Bay, CA; Imperial, CA; 13 miles, 24 miles, 25 MSL; Bard, AZ; 12 miles, 35 MSL; INT Bard 089° and Gila Bend, AZ, 261° radials; 46 miles, 35 MSL; Gila Bend; Tucson, AZ, 7 miles wide (3 miles south and 4 miles north of centerline); Douglas, AZ; INT Douglas 064° and Columbus, NM, 277° radials; Columbus; El Paso, TX; 6 miles wide; INT El Paso 109° and Hudspeth, TX, 287° radials; 6 miles wide; Hudspeth; Pecos, TX; Midland, TX; INT Midland 083° and Abilene, TX, 252° radials; Abilene; to Millsap, TX. From Brookwood, AL; to LaGrange, GA. From Sandhills, NC; to Raleigh-Durham, NC.

* * * * *

V-155 [Amended]

From INT Dublin, GA 309° and Colliers, SC, 243° radials; Colliers; Chesterfield, SC; Sandhills, NC; to Raleigh-Durham, NC. From: Flat Rock; to Brooke, VA. The airspace within R-6602A is excluded.

* * * * *

V-157 [Amended]

From Key West, FL; INT Key West 038° and Dolphin, FL, 244° radials; Dolphin; INT Dolphin 331° and La Belle, FL, 113° radials; La Belle; Lakeland, FL; Ocala, FL; INT Ocala 346° and Taylor, FL,170° radials; Taylor; to Waycross, GA. From Florence, SC; Fayetteville, NC; Kinston, NC; to Tar River, NC. From Robbinsville, NJ; INT Robbinsville 044° and LaGuardia, NY, 213° radials; LaGuardia; INT LaGuardia 032° and Deer Park, NY, 326° radials; INT Deer Park 326° and Kingston, NY, 191° radials; Kingston; to Albany, NY. The airspace within R-6602A, B, and C is excluded when active.

* * * * *

V-189 [Removed]

* * * * *

V-258 [Amended]

From Charleston, WV, Beckley, WV; INT Beckley 125° and Roanoke, VA, 288° radials; to Roanoke.

* * * * *

V-266 [Amended]

From Electric City, SC, to Spartanburg, SC. From Greensboro, NC; to South Boston, VA. From INT Elizabeth City, NC 304° and Norfolk, VA 209° radials to Elizabeth City.

* * * * *

V-454 [Amended]

From Brookley, AL; to Monroeville, AL. From INT Charlotte 034° and Liberty, NC, 253° radials; to Liberty, NC.

* * * * *

V-469 [Amended]

From Lynchburg, VA; INT Lynchburg 347° and Elkins, WV, 142° radials; Elkins; Morgantown, WV; INT Morgantown 010° and Johnstown, PA, 260°; to Johnstown. From Harrisburg, PA; Dupont, DE; to Woodstown, NJ.

* * * * *

Issued in Washington, DC, on December 12, 2023.
Frank Lias,
Manager, Rules and Regulations Group.

[FR Doc. 2023-27664 Filed 12-15-23; 8:45 am]

BILLING CODE 4910-13-P